DEPARTMENT OF JUSTICE

Notice of Lodging of Consent Decree Pursuant to the Clean Water Act

In accordance with Departmental policy and 28 C.F.R. 50.7, notice is hereby given that on October 4, 2000, a consent decree was lodged in United State v. Maryland Aviation Administration, a Unit of the Maryland DOT, Civil Action No. WMN-00-2992, with the United States District Court for the District of Maryland.

This consent decree resolves alleged violations of Clean Water Act section 309, 33 U.S.C. 1319, against the Maryland Aviation Administration, a Unit of the Maryland Department of Transportation, which is an Agency of the State of Maryland, for discharges in excess of permitted effluent limits and failure to meet requirements set forth in MAA's National Pollutant Discharge Elimination System permit for its facility at the Baltimore Washington International Airport in Glen Burnie, Anne Arundel County, Maryland. Components of the settlement include: (1) Injunctive provisions designed to reduce the amount of deicing fluid discharged; (2) a penalty payment of $50,000; (3) a Supplemental Environmental Project to perform a fish study valued at $90,000; and (4) a payment of $50,000 to the citizen plaintiffs for their attorneys fees and costs associated with the related civil action: WMN-98-784.

The Department of Justice will receive comments relating to the proposed consent decree for a period of thirty days from the date of publication of this notice. Comments should be addressed to the Assistant Attorney General, Environment and Natural Resources Division, Department of Justice, Washington, DC 20530, and should refer to United States v. Maryland Aviation Administration, a Unit of the Maryland DOT, DOJ Ref. No. 90-5-1-1-4543. The proposed Consent Decree may be examined at the office of the United States Attorney, District of Maryland, 604 United States Courthouse, 101 West Lombard Street, Baltimore, MD 21201. Copies of the consent decree may also be examined at the offices of the Environmental Protection Agency, Region III, 1650 Arch Street, Philadelphia, Pennsylvania 19103. A copy of the Consent Decree may also be obtained by mail from the Department of Justice Consent Decree Library, P.O. Box 7611, Washington, DC 20044. When requesting a copy by mail, please enclose a check in the amount of $10.75 (twenty-five cents per page reproduction costs), payable to the “Consent Decree Library.”

Bruce Gelber,
Chief, Environmental Enforcement Section, Environment and Natural Resources Division.

[FR Doc. 00-27531 Filed 10-25-00; 8:45 am]

BILLING CODE 4410-15-M